DEPARTMENT OF ENERGY

Federal Energy Regulatory Commission

[Docket No. RP02-13-008]

Portland Natural Gas Transmission System; Notice of Report of Refunds

May 6, 2003.

Take notice that on April 11, 2003, Portland Natural Gas Transmission System (PNGTS), tendered for filing a refund report in the above captioned proceeding.

PNGTS states that the report documents refunds made to customers in accordance with section 2.2 of a Stipulation and Settlement Agreement filed with the Commission on October 25, 2002 in Docket No. RP02-13, and approved by the Commission's Order issued on January 14, 2002. PNGTS states that it completed the refunds on March 26, 2003.

PNGTS states that copies of the filing have been served to the affected Shippers and the State Commission's of affected Shippers.

Any person desiring to protest said filing should file a protest with the Federal Energy Regulatory Commission, 888 First Street, NE., Washington, DC 20426, in accordance with § 385.211 of the Commission's Rules and Regulations. All such protests must be filed on or before the comment date below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 13, 2003.

Magalie R. Salas,
Secretary.

[FR Doc. 03-11797 Filed 5-12-03; 8:45 am]

BILLING CODE 6717-01-P